DEPARTMENT OF AGRICULTURE

Submission for OMB Review; Comment Request

September 21, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 26, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal & Plant Health Inspection Service

Title: APHIS Credit Account and User Fee Programs.

OMB Control Number: 0579-0055.

Summary of Collection: The Food, Agriculture, Conservation and Trade Act of 1990, as amended, authorizes the Secretary of Agriculture and the Animal and Plant Health Inspection Service (APHIS) to prescribe and collect fees to cover the costs of providing certain agricultural quarantine, inspection, and veterinary diagnostics services. Reimbursable overtime fees may also be assessed for inspection services requested during non-duty hours. The Secretary is authorized to use the revenue to provide reimbursements to any appropriation accounts that incur costs associated with the services provided. The Debt Collection Improvement Act of 1996 authorizes the Agency to collect information from person(s) requesting to establish credit accounts with the U.S. government. APHIS charges the appropriate fees to respondents using billing information obtained from several APHIS documents.

Need and Use of the Information: APHIS will collect information from requests to establish credit accounts to conduct credit checks and to ensure credit worthiness prior to extending credit services. APHIS will also collect information required to identify fees associated with provided services, and to ensure that the correct amounts are collected and remitted in full in a timely manner. Without the information, APHIS would not be able to ensure substantial compliance with the statute. Noncompliance with the statute could result in misappropriation of public funds and lost revenue to the Federal Government.

Description of Respondents: Business or other for-profit; Individuals.

Number of Respondents: 8,374.

Frequency of Responses: Reporting: On occasion.

Total Burden Hours: 93,465.

Title: APHIS Pest Reporting and Asian Longhorned Beetle Program.

OMB Control Number: 0579-0311.

Summary of Collection: Under the Plant Protection Act (7 U.S.C. 7701, et seq.), the Secretary of Agriculture is authorized to prohibit or restrict the importation, entry, or movement of plants and plant pests to prevent the introduction of plant pests into, or their dissemination within, the United States. Plant health regulations promulgated by the United States Department of Agriculture under this authority specifically address control programs for a number of pests and diseases of concern, including Asian longhorned beetle, emerald ash borer beetle, and citrus greening, to name a few. The Animal and Plant Health Inspection Service (APHIS) will collect information using a Plant Protection and Quarantine pest reporting form and Asian longhorned beetle unified survey form, and other information collection activities.

Need and Use of the Information: APHIS relies on the public to report sightings of plant pests or suspicious signs of pest or disease damage they may see in their local area. This reporting will be done through online forms for reporting pests, and additional information collection activities such as cooperative agreements for inspection; compliance training workshops; contracts for inspection; homeowner releases or refusals to inspect; homeowner chemical treatment releases; letters of warning of litigation and warrant; litigations and warrants; homeowner releases for tree removal; removals and monitoring; contracts for treatment; removals and disposals; disposal and marshalling yard activities; and certificate or permit cancellation appeals. Failing to collect this information could result in APHIS not receiving information about where infestations may exist, causing them to linger unreported and grow. Infestations of high-consequence pests or diseases, such as Asian longhorned beetle, emerald ash borer beetle, citrus greening, and others, could lead to significant economic damage to crops, forests, and landscapes.

Description of Respondents: Individuals; Business or other for-profit; State, Local, and Tribal Governments.

Number of Respondents: 7,055.

Frequency of Responses: Recordkeeping: Reporting: On occasion.

Total Burden Hours: 438,719.

Ruth Brown,
Departmental Information Collection Clearance Officer.

[FR Doc. 2020-21069 Filed 9-23-20; 8:45 am]

BILLING CODE 3410-34-P